DEPARTMENT OF TRANSPORTATION

Federal Aviation Administration

14 CFR Part 39

[Docket No. FAA-2006-23675; Directorate Identifier 2001-NM-320-AD]

RIN 2120-AA64

Airworthiness Directives; Airbus Model A300 B2-203 and A300 B4-203 Airplanes; Model A300 B4-600, B4-600R, and F4-600R Series Airplanes, and Model C4-605R Variant F Airplanes (Collectively Called A300-600 Series Airplanes); and Model A310-200 and -300 Series Airplanes

AGENCY: Federal Aviation Administration (FAA), DOT.

ACTION: Notice of proposed rulemaking (NPRM).

SUMMARY: The FAA proposes to supersede an existing airworthiness directive (AD) that affects certain Airbus Model A300 series airplanes and all Model A300-600 and A310 series airplanes. That AD currently requires repetitive inspections of the pitch trim system to detect continuity defects in the autotrim function, and follow-on corrective actions if necessary. For certain airplanes, this proposed AD would also require replacing the flight augmentation computers (FACs) with new improved FACs. This proposed AD also revises the applicability of the existing AD. This proposed AD results from the development of a final action intended to address the unsafe condition. We are proposing this AD to prevent a sudden change in pitch due to an out-of-trim condition combined with an autopilot disconnect, which could result in reduced controllability of the airplane.

DATES: We must receive comments on this proposed AD by February 24, 2006.

ADDRESSES: Use one of the following addresses to submit comments on this proposed AD.

• DOT Docket Web site: Go to ­ http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, room PL-401, Washington, DC 20590.

• Fax: (202) 493-2251.

• Hand Delivery: Room PL-401 on the plaza level of the Nassif Building, 400 Seventh Street, SW., Washington, DC, between 9 a.m. and 5 p.m., Monday through Friday, except Federal holidays.

For service information identified in this proposed AD, contact Airbus Industrie, 1 Rond Point Maurice Bellonte, 31707 Blagnac Cedex, France.

You can examine the contents of this AD docket on the Internet at http://dms.dot.gov, or in person at the Docket Management Facility, U.S. Department of Transportation, 400 Seventh Street, SW., room PL-401, on the plaza level of the Nassif Building, Washington, DC.

FOR FURTHER INFORMATION CONTACT: Tim Backman, Aerospace Engineer, International Branch, ANM-116, FAA, Transport Airplane Directorate, 1601 Lind Avenue, SW., Renton, Washington 98055-4056; telephone (425) 227-2797; fax (425) 227-1149.

SUPPLEMENTARY INFORMATION:

Comments Invited

We invite you to submit any written relevant data, views, or arguments regarding this proposed AD. Send your comments to an address listed under ADDRESSES. Include “Docket No. FAA-2006-23675; Directorate Identifier 2001-NM-320-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of our docket web site, anyone can find and read the comments in any of our dockets, including the name of the individual who sent the comment (or signed the comment on behalf of an association, business, labor union, etc.). You can review the DOT's complete Privacy Act Statement in the Federal Register published on April 11, 2000 (65 FR 19477-78), or you may visit http://dms.dot.gov.

Examining the Docket

You can examine the AD docket on the Internet at http://dms.dot.gov, or in person at the Docket Management Facility office between 9 a.m. and 5 p.m., Monday through Friday, except Federal holidays. The Docket Management Facility office (telephone (800) 647-5227) is on the plaza level of the Nassif Building at the DOT street address stated in the ADDRESSES section. Comments will be available in the AD docket shortly after the DMS receives them.

Discussion

On November 6, 2000, we issued AD 2000-23-07, amendment 39-11977 (65 FR 68876, November 15, 2000), for certain Airbus Model A300 series airplanes and all Model A300-600 and A310 series airplanes. That AD requires repetitive inspections of the pitch trim system to detect any continuity defect in the autotrim function, and follow-on corrective actions if necessary. That AD was prompted by issuance of mandatory continuing airworthiness information by the Direction Générale de l'Aviation Civile (DGAC), which is the airworthiness authority for France. We issued that AD to prevent a sudden change in pitch due to an out-of-trim condition combined with an autopilot disconnect, which could result in reduced controllability of the airplane.

Actions Since Existing AD Was Issued

One operator reported an undetected slow pitch trim movement in the nose-down direction leading to an out-of-trim situation and airplane nose-down attitude during climb phase after autopilot engagement. Investigation revealed an open circuit in the existing flight augmentation computer (FAC) software design did not allow the FAC pitch trim monitoring function to provide automatic disengagement of pitch trim.

Since AD 2000-23-07 was issued, as a result of these new findings and the incidents that prompted AD 2000-23-07, a new FAC was developed for Model A300-600 and A310-200 and -300 series airplanes to restore full capability of the FAC autotrim monitoring function.

In AD 2000-23-07, we explain that we consider the requirements “interim action” and were considering further rulemaking. We now have determined that further rulemaking is indeed necessary, and this proposed AD follows from that determination.

Relevant Service Information

Airbus has issued Service Bulletins A300-22-6050, dated October 8, 2004, and A310-22-2058, dated April 6, 2005. The service bulletins describe procedures for replacing the FACs with new improved FACs. To ensure the continued airworthiness of these airplanes in France, the DGAC mandated the service information by issuing French airworthiness directive F-2005-111 R1, dated December 21, 2005. (The DGAC also mandated Airbus Service Bulletin A300-22-6041, described in AD 2000-23-07, for Model A300 B2-203 and A300 B4-203 airplanes, in French airworthiness directive F-2000-115-304 R5, dated July 6, 2005.) Accomplishing the actions specified in the service bulletins is intended to adequately address the unsafe condition.

FAA's Determination and Requirements of the Proposed AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that AD action is necessary for airplanes of this type design that are certificated for operation in the United States.

We are proposing to supersede AD 2000-23-07. This proposed AD would retain the requirements of the existing AD. This action would also require accomplishing the actions specified in the service information described in this proposed AD.

Explanation of Changes to Existing AD

We have revised the applicability of the existing AD to identify model designations as published in the most recent type certificate data sheet for the affected models.

AD 2000-23-07 requires operators to report their inspection findings. We no longer need this information and have removed this requirement from this proposed AD.

We have revised this action to clarify the appropriate procedure for notifying the principal inspector before using any approved AMOC on any airplane to which the AMOC applies.

Costs of Compliance

This AD would affect about 86 airplanes of U.S. registry. The following table provides the estimated costs for U.S. operators to comply with this proposed AD.

Cost Estimates
Action | Service bulletins | Work hours | Hourly labor rate | Parts cost | Total per airplane
Inspection required by AD 2000-03-07, per inspection cycle | A300-22A6042, A300-22A0115, A310-22A2053 | 1 | $65 | None | $65, per inspection cycle.
Proposed FAC replacement | A300-22-6050, A310-22-2058 | 9 | $65 | $2,677 | $3,262.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing amendment 39-11977 (65 FR 68876, November 15, 2000) and adding the following new airworthiness directive (AD):

Airbus: Docket No. FAA-2006-23675; Directorate Identifier 2001-NM-320-AD.

Comments Due Date

(a) The Federal Aviation Administration must receive comments on this AD action by February 24, 2006.

Affected ADs

(b) This AD supersedes AD 2000-23-07.

Applicability

(c) This AD applies to the following Airbus airplanes, certificated in any category.

(1) Model A300 B2-203 and A300 B4-203 airplanes, as identified in Airbus Service Bulletin A300-22A0115, Revision 02, dated March 7, 2000.

(2) Model A300 B4-601, B4-603, B4-620, B4-622, A300 B4-605R, B4-622R, A300 F4-605R, F4-622R, and A300 C4-605R Variant F airplanes, except those modified in production by Airbus Modification 12932.

(3) Model A310-203, -204, -221, -222, -304, -322, -324, and -325 airplanes, except those modified in production by Airbus Modification 12932.

Unsafe Condition

(d) This AD results from the development of final action intended to address the unsafe condition. We are issuing this AD to prevent a sudden change in pitch due to an out-of-trim condition combined with an autopilot disconnect, which could result in reduced controllability of the airplane.

Compliance

(e) You are responsible for having the actions required by this AD performed within the compliance times specified, unless the actions have already been done.

Restatement of Requirements of AD 2000-23-07

Repetitive Inspections

(f) For airplanes subject to the requirements of AD 2000-23-07: At the applicable time specified by paragraph (f)(1) or (f)(2) of this AD, perform an inspection of the autotrim function by testing the flight control computer (FCC)/flight augmentation computer (FAC) integrity in logic activation of the autotrim, in accordance with Airbus Service Bulletin A300-22A6042, Revision 01 (for Model A300-600 series airplanes); A300-22A0115, Revision 02 (for Model A300 series airplanes); or A310-22A2053, Revision 01 (for Model A310 series airplanes); all dated March 7, 2000; as applicable. If any discrepancy is found, prior to further flight, perform all applicable corrective actions (including trouble-shooting; replacing the FCC and/or FAC, as applicable; retesting; checking the wires between certain FCC and FAC pins; and repairing damaged wires) in accordance with the applicable service bulletin. Repeat the inspection thereafter at intervals not to exceed 500 flight hours. Replacement of both FACs in accordance with paragraph (g) of this AD terminates the inspection requirements of this paragraph.

(1) For airplanes on which the pitch trim system test has been performed in accordance with the requirements of AD 2000-02-04, amendment 39-11522: Inspect within 500 flight hours after accomplishment of the test required by that AD, or within 20 days after December 20, 2000 (the effective date of AD 2000-23-07, whichever occurs later.

(2) For all other airplanes: Inspect within 20 days after December 20, 2000.

New Requirements of This AD

FAC Replacement

(g) At the time specified in Table 1 of this AD, replace the two FACs with new FACs in accordance with the Accomplishment Instructions of Airbus Service Bulletin A300-22-6050, dated October 8, 2004, or A310-22-2058, dated April 6, 2005; as applicable.

Table 1.—Compliance Times To Replace FACs
Airplane model/series | Configuration | Required compliance time after the effective date of this AD
A300-600 | Without accomplishment of Airbus Service Bulletin A300-22-6041, Revision 01, dated February 21, 2001, or previous version, or Modification 12277 | 24 months.
| And without accomplishment of Airbus Service Bulletin A300-22-6050, dated October 8, 2004, or Modification 12932.
| With accomplishment of Airbus Service Bulletin A300-22-6041, Revision 01, dated February 21, 2001, or previous version, or Modification 12277. | 36 months.
| And without accomplishment of Airbus Service Bulletin A300-22-6050, dated October 8, 2004, or Modification 12932.
A310 | Without accomplishment of Airbus Service Bulletin A310-22-2052, Revision 01, dated November 8, 2001, or previous version, or Modification 12277 | 24 months.
| And without accomplishment of Airbus Service Bulletin A310-22-2058, dated April 6, 2005, or Modification 12931.
| With accomplishment of Airbus Service Bulletin A310-22-2052, Revision 01, dated November 8, 2001, or previous version, or Modification 12277. | 36 months.
| And without accomplishment of Airbus Service Bulletin A310-22-2058, dated April 6, 2005, or Modification 12931.

Part Installation

(h) On or after the effective date of this AD, no person may install, on any airplane, any FAC having P/N B471AAM7 (for Model A300-600 series airplanes) or FAC P/N B471ABM4 (for Model A310 series airplanes), unless the FAC is in compliance with this AD.

Alternative Methods of Compliance (AMOCs)

(i)(1) The Manager, International Branch, ANM-116, Transport Airplane Directorate, FAA, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

Related Information

(j) The subject of this AD is addressed in French airworthiness directives F-2005-111 R1, dated December 21, 2005, and F-2000-115-304 R5, dated July 6, 2005.

Issued in Renton, Washington, on January 17, 2006.
Ali Bahrami,
Manager, Transport Airplane Directorate, Aircraft Certification Service.

[FR Doc. E6-897 Filed 1-24-06; 8:45 am]

BILLING CODE 4910-13-P